DEPARTMENT OF HEALTH AND HUMAN SERVICES

Centers for Disease Control and Prevention

Disease, Disability, and Injury Prevention and Control; Special Emphasis Panel; Notice of Meeting

Disease, Disability, and Injury Prevention and Control Special Emphasis Panel: Occupational Safety and Health Research, Program Announcement 99-143, Program for the Initiation and Development of State-Based Surveillance Capacity in Occupational Safety and Health, Request for Applications OH-02-007,Continuation Support for State-Based SENSOR Programs, Request for Applications OH-02-013.

In accordance with section 10(a)(2) of the Federal Advisory Committee Act (Pub. L. 92-463), the Centers for Disease Control and Prevention (CDC) announces the following meeting:

Name: Disease, Disability, and Injury Prevention and Control Special Emphasis Panel (SEP): Occupational Safety and Health Research, PA# 99-143, Program for the Initiation and Development of State-Based Surveillance Capacity in Occupational Safety and Health, RFA OH-02-007,Continuation Support for State-Based SENSOR Programs, RFA OH-02-013.

Times and Dates: 9 a.m.-9:30 a.m., August 1, 2002 (Open), 9:40a.m.-5 p.m., August 1, 2002 (Closed), 9 a.m.-5 p.m., August 2, 2002 (Closed).

Place: Harbor Court Hotel, 550 Light Street, Baltimore MD 21202. Phone 1-800-824-0076.

Status: Portions of the meeting will be closed to the public in accordance with provisions set forth in section 552b(c) (4) and (6), Title 5 U.S.C., and the Determination of the Director, Management Analysis and Services Office, CDC, pursuant to Public Law 92-463.

Matters to be Discussed: The meeting will include the review, discussion, and evaluation of applications received in response to PA# 99-143, RFA OH-02-007 and RFA OH-02-013.

Contact Person for More Information: Gwendolyn Haile Cattledge, Ph.D., Scientific Review Administrator, Office of Extramural Programs, National Institute for Occupational Safety and Health, CDC, 1600 Clifton Road NE MS E-74, Atlanta, GA 30333 telephone (404) 498-2508.

The Director, Management Analysis and Services Office has been delegated the authority to sign Federal Register notices pertaining to announcements of meetings and other committee management activities, for both the Centers for Disease Control and Prevention and the Agency for Toxic Substances and Disease Registry.

Dated: July 11, 2002.
John Burckhardt,
Acting Director, Management Analysis and Services Office, Centers for Disease Control and Prevention (CDC).

[FR Doc. 02-17948 Filed 7-16-02; 8:45 am]

BILLING CODE 4163-19-P